DEPARTMENT OF AGRICULTURE

Office of the Secretary

Sugar Charged Against the FY 2019 Raw Sugar Tariff-Rate Quota May be Entered Until October 15, 2019

AGENCY: Office of the Secretary, USDA.

ACTION: Notice.

SUMMARY: The U.S. Department of Agriculture today announced that sugar charged against the FY 2019 raw sugar tariff-rate quota (TRQ) will be permitted to enter U.S. Customs territory until October 15, 2019, two weeks later than usual, to provide more opportunity for supplying countries to fill their import quotas.

Additional U.S. Note 5(a)(iv) of Chapter 17 of the U.S. Harmonized Tariff Schedule provides: “(iv) Sugar entering the United States during a quota period established under this note may be charged to the previous or subsequent quota period with the written approval of the Secretary.”

Pursuant to the Congressional Review Act, the Office of Information and Regulatory Affairs designated this rule as not a major rule.

DATES: This notice is applicable on August 9, 2019.

FOR FURTHER INFORMATION CONTACT: Souleymane Diaby, Import Policies and Export Reporting Division, Foreign Agricultural Service, Stop 1021, 1400 Independence Avenue SW, Washington, DC 20250-1021; by telephone (202) 720-2916; or by email Souleymane.Diaby@usda.gov.

Dated: August 6, 2019.
Ted A. McKinney,
Under Secretary, Trade and Foreign Agricultural Affairs.

[FR Doc. 2019-17130 Filed 8-8-19; 8:45 am]

BILLING CODE 3410-10-P